DEPARTMENT OF COMMERCE

National Telecommunications and Information Administration

47 CFR Part 300

[Docket Number: 090225246‐9247‐01]

RIN 0660‐AA20

Revision to the Manual of Regulations and Procedures for Federal Radio Frequency Management

AGENCY: National Telecommunications and Information Administration, U.S. Department of Commerce.

ACTION: Final Rule.

SUMMARY: The National Telecommunications and Information Administration (NTIA) hereby makes certain changes to its regulations which relate to revisions to and the public availability of the Manual of Regulations and Procedures for Federal Radio Frequency Management (NTIA Manual). Specifically, the NTIA updates the version of the Manual of Regulations and Procedures for Federal Radio Frequency Management with which Federal agencies must comply when requesting use of the radio frequency spectrum.

EFFECTIVE DATE: This regulation is effective on July 2, 2009. The incorporation by reference of certain publications listed in the rule is approved by the Director of the Federal Register as of July 2, 2009.

ADDRESSES: A reference copy of the NTIA Manual, including all revisions in effect, is available in the Office of Spectrum Management, 1401 Constitution Avenue, NW, Room 1087, Washington, DC 20230.

FOR FURTHER INFORMATION CONTACT: William Mitchell, Office of Spectrum Management at (202) 482‐8124 or wmitchell@ntia.doc.gov.

SUPPLEMENTARY INFORMATION:

Background

NTIA authorizes the U.S. Government’s use of the radio frequency spectrum. 47 U.S.C. § 902(b)(2)(A). The NTIA Manual is the compilation of policies and procedures that govern the use of the radio frequency spectrum by the U.S. Government. Federal government agencies are required to follow these policies and procedures in their use of the spectrum.

Part 300 of title 47 of the Code of Federal Regulations provides information about the way in which NTIA regularly revises the NTIA Manual and public availability of this document and all revisions. Federal agencies are required to comply with the specification in the NTIA Manual according to 47 U.S.C. § 901 et seq., Executive Order 12046 (March 27, 1978), 43 FR 13,349, 3 CFR 1978 Comp., p. 158, when requesting frequency assignments for use of the radio frequency spectrum.

This rule updates section 300.1(b) to specify the version of the NTIA Manual with which Federal agencies must comply when requesting frequency assignments for use of the radio frequency spectrum. Section 300.1(b) also amends the regulations by replacing “September 2008” with “January 2009.” Upon the effective date of this rule, Federal agencies must comply with the requirements set forth in the January 2008 edition of the NTIA Manual, as revised through January 2009.

The NTIA Manual is scheduled for revision in January, May, and September of each year. The revisions are submitted to the Director of the Federal Register for Incorporation by Reference approval. Notices of these changes are printed in the Federal Register. The NTIA Manual is available from the Superintendent of Documents, U.S. Government Printing Office, Washington, DC 20402, by referring to Catalog Number 903-008-00000-8. A reference copy of the NTIA Manual, including all revisions in effect, is available in the Office of Spectrum Management, 1401 Constitution Avenue, NW, Room 1087, Washington, DC 20230, or call William Mitchell at (202) 482-8124. The NTIA Manual is available online at http://www.ntia.doc.gov/osmhome/redbook/redbook.html. The NTIA Manual is on file at the National Archives and Records Administration (NARA). For information on the availability of this material at NARA, call (202) 741-6030, or go to: http://www.archives.gov/federal_register/code_of_federal_regulations/ibr_locations.html.

Paperwork Reduction Act

This action does not contain collection of information requirements subject to the Paperwork Reduction Act (PRA). Notwithstanding any other provision of law, no person is required to respond to, nor shall any person be subject to a penalty for failure to comply with a collection of information subject to the PRA, unless that collection displays a currently valid OMB Control Number.

Executive Order 12866

This rule has been determined to be not significant for purposes of Executive Order 12866.

Administrative Procedure Act/Regulatory Flexibility Act

NTIA finds good cause under 5 U.S.C. § 553(b)(3)(B) to waive prior notice and opportunity for public comment as it is unnecessary. This action amends the regulations to modify a section heading and to delete a section addressing incorporation by reference because it is no longer the manner in which NTIA promulgates and distributes the NTIA Manual to Federal agencies. These changes do not impact the rights or obligations of the public. The NTIA Manual applies only to Federal agencies. Because these changes impact only federal agencies, NTIA finds it unnecessary to provide for the notice and comment requirements of 5 U.S.C. § 553.

Because notice and opportunity for comment are not required pursuant to 5 U.S.C. § 553 or any other law, the analytical requirements of the Regulatory Flexibility Act (5 U.S.C. § 601 et seq.) are not applicable. Therefore, a regulatory flexibility analysis is not required and has not been prepared.

Executive Order 13132

This rule does not contain policies having federalism implications as that term is defined in EO 13132.

Regulatory Text

List of Subjects in 47 CFR Part 300

Incorporation by reference; Radio.

For the reasons set forth in the preamble, NTIA amends title 47, Part 300 as follows:

PART 300 - MANUAL OF REGULATIONS AND PROCEDURES FOR FEDERAL RADIO FREQUENCY MANAGEMENT

1. The authority citation for part 300 continues to read as follows:

Authority: Authority: 47 U.S.C. 901 et seq., Executive Order 12046 (March 27, 1978), 43 FR 13,349, 3 CFR 1978 Comp., p. 158.

2. Paragraph 300.1(b) is revised to read as follows:

§ 300.1 Incorporation by reference of the Manual of Regulations and Procedures for Federal Radio Frequency Management.

* * * * *

(b) The Federal agencies shall comply with the requirements set forth in the January 2008 edition of the NTIA Manual, as revised through January 2009, which is incorporated by reference with approval of the Director, Office of the Federal Register in accordance with 5 U.S.C. 552(a) and 1 CFR part 51.

Dated: June 26, 2009.
Anna M. Gomez,
Acting Assistant Secretary for Communications and Information.

[FR Doc. E9-15670 Filed 7-1-09; 8:45 am]

BILLING CODE 3510-60-S